DEPARTMENT OF HEALTH AND HUMAN SERVICES

Indian Health Service

Meeting on American Indian/Alaska Native Lesbian, Gay, Bisexual, and Transgender Health Issues

AGENCY: Indian Health Service.

ACTION: Notice of meeting.

SUMMARY: The Indian Health Service (IHS) is continuing to seek broad public input as it continues efforts to advance and promote the health needs of the American Indian/Alaska Native (AI/AN) Lesbian, Gay, Bisexual, and Transgender (LGBT) community.

DATES: The meeting will be held as shown below:

1. September 11, 2015 from 12:00 p.m. EST to 2:00 p.m. EST.

ADDRESSES: The meeting location is:

1. Hubert H. Humphrey Building, 200 Independence Avenue SW., Washington, DC 20201.

Written statements may be submitted to Lisa Neel, MPH, Program Coordinator, Office of Clinical and Preventive Services, Indian Health Service, 801 Thompson Avenue, Suite 300, Rockville, MD 20852.

FOR FURTHER INFORMATION CONTACT: Lisa Neel, MPH, Program Coordinator, Office of Clinical and Preventive Services, Indian Health Service, 801 Thompson Avenue, Suite 300, Rockville, MD 20852, Telephone 301-443-4305. (This is not a toll-free number.)

SUPPLEMENTARY INFORMATION: The meeting will be open to the public. To facilitate the building security process, those who plan to attend should RSVP to Lisa Neel at lisa.neel@ihs.gov or by telephone at 301-443-4305 no later than 5:00 p.m. EST on August 31, 2015. (This is not a toll-free number.) Public attendance will be limited to the space available. Members of the public may make statements during the meeting to the extent time permits and file written statements with the Agency for its consideration. Written statements should be submitted to the address listed above.

Dated: August 19, 2015.
Robert G. McSwain,
Deputy Director, Indian Health Service.

[FR Doc. 2015-21068 Filed 8-25-15; 8:45 am]

BILLING CODE 4165-16-P